DEPARTMENT OF DEFENSE

Department of the Army; Corps of Engineers

Intent To Prepare a Draft Environmental Impact Statement (DEIS) for the Construction of a Proposed Disposal Site for Dredged material in the Middle Branch of the Patapsco River, at Masonville, Baltimore City/Application for a Corps Section 10/404 Individual Permit

AGENCY: Department of the Army, U.S. Army Corps of Engineers, DOD.

ACTION: Notice of intent.

SUMMARY: The Baltimore District, U.S. Army Corps of Engineers (Corps) expects receipt of an application in January 2006 from the State of Maryland Department of Transportation, Maryland Port Administration (MPA) for a Section 10/404 individual permit for the construction of a disposal site for dredged material in the Middle Branch of the Patapsco River, at Masonville, Baltimore City, MD. Based on preliminary discussions with the MPA, the Corps has determined that an environmental impact statement (EIS) is required for this proposed project. The applicant's stated purpose of the proposed project is to provide a disposal site to accommodate dredged material generated by dredging projects occurring over the next 5 to 10 years in the Baltimore Harbor area. The EIS will focus on the 5-10 year dredging needs within Baltimore Harbor and upland containment and beneficial use of dredged materials from the Port of Baltimore channel system in the Patapsco River and its tributaries. As part of this study, in accordance with the National Environmental Policy Act (NEPA) of 1969, an EIS will be prepared to document the plan formulation process and recommendations of this study.

DATES: A public scoping meeting is scheduled for June 15, 2005, at 7 p.m. Display material and staff will be available beginning at 6 p.m.

ADDRESSES: The meeting address is the Baum Auditorium at the Harbor Hospital; 3001 S. Hanover Street, Baltimore, MD 21225.

FOR FURTHER INFORMATION CONTACT: Questions or information about the proposed action and draft EIS can be addressed to Jon Romeo, Operations Division, Regulatory Branch, U.S. Army Corps of Engineers, ATTN: CENAB-OP-RMN, 10 South Howard Street, P.O. Box 1715, Baltimore, MD 21203-1715, telephone 410-972-6079; e-mail address: jon.romeo@nab02.usace.army.mil.

SUPPLEMENTARY INFORMATION: The Baltimore Harbor study area is defined as the Patapsco River area west of the North Point-Rock Point line in the Patapsco River to include Old Road Bay, Bear Creek, Middle Branch, Northwest Branch, and Curtis Bay and the shoreline and open water between them. Currently dredged material from Baltimore harbor is being placed in the Hart-Miller Island (HMI) Containment Facility, and, in the near future, will be placed in the Cox Creek Dredged Material Containment Facility (DMCF). State legislative requirements prohibit placing dredged material in HMI after December 31, 2009. Management of the cover and closure of HMI may limit acceptance of dredged material placement capacity could occur beginning with the 2008 dredging season (Fall 2008). The purpose of the proposed Masonville disposal site, and the associated EIS is to determine an environmentally sound, economically feasible method for the placement or use of dredged material removed from harbor channels and new dredge areas. There is an estimated 16 million cubic yard shortfall in dredged material capacity within the harbor over the next 20 years. The applicant and the Corps are actively seeking public opinion, participation, and advice to be incorporated into the planning process and the selection of placement options for harbor dredged material. At this time, the projects under consideration include confined disposal sites at Masonville, BP-Fairfield, and Sparrows Point.

Alternatives to be addressed in the DEIS will include: The no action alternative and confined disposal facilities at Masonville, BP-Fairfield, and Sparrows Point. Beneficial uses, such as habitat creation or restoration may be associated with these options. Community enhancement may also be associated with these options, such as public access to waterfront areas, maritime heritage projects, community parks and trails. As part of the initial phase of the study, an objective screening criteria developed in 2002 through the State's Dredged Material Management Program (DMMP) process, will continue to be used to evaluate harbor sites based on current information obtained from the State of Maryland's DMMP, the Harbor Team, public and agency input, available data, and best professional judgment. Following the NEPA process, once projects are selected for consideration, a detailed analysis of the existing conditions will be undertaken; alternative plans will be developed, analyzed and compared; the impacts of those plans will be analyzed; and a recommended plan will be selected.

To solicit public input into the draft EIS and into the selection of a project or projects, a public scoping meeting is planned (see DATES and ADDRESSES).

The EIS will be integrated with analyses and consultation required by the National Environmental Policy Act (NEPA), seciton 10 of the River and Harbor Act, section 401 and section 404 of the Clean Water Act, section 7 of the Endangered Species Act, the Clean Air Act, the U.S. Fish and Wildlife Coordination Act, section 106 of the National Historic Preservation Act, Prime and Unique Farmlands, the Magnuson-Stevens Fishery Conservation and Management Act. All appropriate documentation (i.e., section 7, section 106 coordination letters, and public and agency comments) will be obtained and included as part of the EIS. As part of the EIS process, recommendations will be based on an evaluation of the probable impact of the proposed activity on the public interest. The decision will reflect the national concern for the protection and utilization of important resources. The benefit, which may reasonably be expected to accrue from the proposal, will be balanced against its reasonably foreseeable detriments. All factors that may be relevant to the proposal will be considered, among these are wetlands; fish and wildlife resources; cultural resources; land use; water and air quality; hazardous, toxic, and radioactive substances; threatened and endangered species; regional geology; aesthetics; environmental justice; navigation; cumulative impacts; and the general needs and welfare of the public. The draft EIS is expected for public release in March 2006.

Christina E. Correale,
Chief, Operations Division.

[FR Doc. 05-10543 Filed 5-25-05; 8:45 am]

BILLING CODE 3710-41-M